DEPARTMENT OF COMMERCE

International Trade Administration

Membership of the International Trade Administration Performance Review Board

AGENCY: International Trade Administration, Department of Commerce.

ACTION: Notice of Membership on the International Trade Administration's Performance Review Board.

SUMMARY: The International Trade Administration (ITA), Department of Commerce (DOC), announces the appointment of those individuals who have been selected to serve as members of ITA's Performance Review Board. The Performance Review Board is responsible for reviewing performance appraisals and ratings of Senior Executive Service (SES) members and making recommendations to the appointing authority on other performance management issues, such as pay adjustments, bonuses and Presidential Rank Awards for SES. The appointment of these members to the Performance Review Board will be for a period of twenty-four (24) months.

DATES: The period of appointment for those individuals selected for ITA's Performance Review Board begins on October 30, 2020.

FOR FURTHER INFORMATION CONTACT: Joan Nagielski, U.S. Department of Commerce, Office of Human Resources Management, Department of Commerce Human Capital Client Services, Office of Employment and Compensation, 14th and Constitution Avenue NW, Room 50013, Washington, DC 20230, at (202) 482-6342.

SUPPLEMENTARY INFORMATION: In accordance with 5 U.S.C. 4314(c)(4), the International Trade Administration (ITA), Department of Commerce (DOC), announces the appointment of those individuals who have been selected to serve as members of the ITA Performance Review Board. The Performance Review Board is responsible for (1) reviewing performance appraisals and ratings of Senior Executive Service (SES) members and (2) making recommendations to the appointing authority on other Performance management issues, such as pay adjustments, bonuses and Presidential Rank Awards for SES. The Appointment of these members to the Performance Review Board will be for a period of twenty-four (24) months. The name, position title, and type of appointment of each member of the Performance Review Board are set forth below:

1. Scott Tatlock, Executive Director, Office of China, ITA Career SES

2. Christian Marsh, Deputy Assistant Secretary for Enforcement and Compliance, ITA, Career SES

3. Anne Driscoll, Deputy Assistant Secretary for Industry and Analysis, ITA Career SES

4. Praveen Dixit, Deputy Assistant Secretary for Trade Policy and Analysis, ITA, Career SES

5. Rona Bunn, Chief Information Officer, Career SES

6. Kurt Bersani, Chief Financial Officer, Enterprise Services, Career SES

7. Jose Cunningham, Director, Advocacy Center, ITA, Non-Career SES

8. Catrina Purvis, Chief Privacy Officer and Director of Open Government, DOC, Career SES

9. Carole Showers, Executive Director for Anti-Dumping & Subsidies Policy and Negotiation, ITA, Career SES

10. Ian Saunders, DAS for Western Hemisphere, ITA, Career SES

11. Lawson Kluttz, Chief of Staff for ITA, Non-Career SES

Dated: October 26, 2020.
Joan Nagielski,
Human Resources Specialist, Office of Employment and Compensation, Department of Commerce Human Capital Client Services, Office of Human Resources Management, Office of the Secretary, Department of Commerce.

[FR Doc. 2020-24044 Filed 10-29-20; 8:45 am]

BILLING CODE 3510-DS-P